DEPARTMENT OF DEFENSE

Office of the Secretary

32 CFR Part 171

RIN 0790-AG95

Implementation of Wildfire Suppression Aircraft Transfer Act of 1996

Correction

In rule document 03-4443 beginning on page 8822 in the issue of Wednesday, February 26, 2003, make the following correction:

§171.6 [Corrected]

On page 8824, in §171.6, in the second column, paragraph “(f)” should read, paragraph “(b)”.

[FR Doc. C3-4443 Filed 3-10-03; 8:45 am]

BILLING CODE 1505-01-D

DEPARTMENT OF HEALTH AND HUMAN SERVICES

Program Support Center

Statement of Organization, Functions, and Delegations of Authority

Correction

In notice, document 03-3998 beginning on page 8040 in the issue of Wednesday, February 19, 2003, make the following corrections:

1. On page 8040, in the second column, paragraph “B” should read, paragraph “C”.

2. On the same page, in the same column, after paragraph “A”, add the text “ B. Under Chapter PA, Office of the Director (PA), delete Office of Customer Relations (PAC) in its entirety”.

[FR Doc. C3-3998 Filed 3-10-03; 8:45 am]

BILLING CODE 1505-01-D